DEPARTMENT OF HOMELAND SECURITY

Transportation Security Administration

Intent To Request Renewal From OMB of One Current Public Collection of Information: TSA OLE/FAMS Canine Training and Evaluation Section (CTES) End of Course Level 1 Critique (Formerly Named: National Explosives Detection Canine Team Program (NEDCTP) Handler Training Assessment Survey)

AGENCY: Transportation Security Administration, DHS.

ACTION: 60-day Notice.

SUMMARY: The Transportation Security Administration (TSA) invites public comment on one currently approved Information Collection Request (ICR), Office of Management and Budget (OMB) control number 1652-0041, abstracted below that we will submit to OMB for a revision in compliance with the Paperwork Reduction Act (PRA). The ICR describes the nature of the information collection and its expected burden. The collection involves the submission of numerical ratings and written comments about the quality of training instruction from students who graduate from the Federal Air Marshal Service (FAMS)/Canine Training and Evaluation Section (CTES) Explosives Detection Canine Handlers Course, Passenger Screening Canine Handler Course and the Supervisor/Trainer Seminars.

DATES: Send your comments by February 27, 2015.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0041; TSA OLE/FAMS Canine Training and Evaluation Section End of Course Level 1 Critique (Formerly Named: National Explosives Detection Canine Team Program (NEDCTP) Handler Training Assessment Survey). The FAMS/CTES Explosives Detection Canine Handlers Course, Passenger Screening Canine Handler Course and the Supervisor/Trainer Seminars are given to state and local personnel as well as TSA personnel who are trained to be canine handlers. The state and local personnel participate under agency specific cooperative agreements in that portion of the TSA Grant program administered by the National Explosives Detection Canine Team Program (NEDCTP). The End of Course Level 1 Survey captures from graduating students numerical ratings and written comments about the quality of training instruction at the FAMS/CTES Explosives Detection Canine Handlers Course, Passenger Screening Canine Handler Course and the Supervisor/Trainer Seminars. The data is collected by the CTES Training Support Unit and provides valuable feedback to the Supervisory Air Marshal in Charge (SAC) and CTES instructional staff and supervisors on how the training material was presented and received. The Level 1 Surveys are mandatory for students who successfully complete training, but the students may remain anonymous. Once reviewed, the feedback is used to improve the course curriculum and the course of instruction. The estimated burden is approximately one hour per participant, 180 hours per calendar year (average 180 students per calendar year) to read, answer, and submit the questions.

Dated: December 22, 2014.
Christina A. Walsh,
TSA Paperwork Reduction Act Officer, Office of Information Technology.

[FR Doc. 2014-30395 Filed 12-24-14; 8:45 am]

BILLING CODE 9110-05-P